DEPARTMENT OF ENERGY

Federal Energy Regulatory Commission

Combined Notice of Filings #1

Take notice that the Commission received the following electric rate filings:

Docket Numbers: ER11-3326-003.

Applicants: Midcontinent Independent System Operator, Inc.

Description: Midcontinent Independent System Operator, Inc. submits 05-17-2013 SA 2165 Ameren-Settlers GIA Comp to be effective 4/9/2011.

Filed Date: 5/17/13.

Accession Number: 20130517-5141.

Comments Due: 5 p.m. ET 6/7/13.

Docket Numbers: ER11-3330-003.

Applicants: Midcontinent Independent System Operator, Inc.

Description: Midcontinent Independent System Operator, Inc. submits 05-17-2013 SA 2325 MPFCA Ameren-Settlers Comp to be effective 4/12/2011.

Filed Date: 5/17/13.

Accession Number: 20130517-5143.

Comments Due: 5 p.m. ET 6/7/13.

Docket Numbers: ER11-3576-009.

Applicants: Golden Spread Electric Cooperative, Inc.

Description: Golden Spread Electric Cooperative, Inc. submits Updated Market Power Analysis—Second Revision to be effective 12/28/2012.

Filed Date: 5/17/13.

Accession Number: 20130517-5109.

Comments Due: 5 p.m. ET 6/7/13.

Docket Numbers: ER12-1772-001.

Applicants: Southwest Power Pool, Inc.

Description: Southwest Power Pool, Inc. submits Compliance Filing in ER12-1772—Attachment O to be effective 7/26/2010.

Filed Date: 5/17/13.

Accession Number: 20130517-5155.

Comments Due: 5 p.m. ET 6/7/13.

Docket Numbers: ER13-1519-000.

Applicants: Arizona Public Service Company

Description: Arizona Public Service Company submits Edison Navajo Transmission Agreement as APS Rate Schedule No. 267 to be effective 7/1/2013.

Filed Date: 5/17/13.

Accession Number: 20130517-5145.

Comments Due: 5 p.m. ET 6/7/13.

Docket Numbers: ER13-1520-000.

Applicants: Arizona Public Service Company

Description: Arizona Public Service Company submits tariff filing per 35.13(a)(2)(iii: Amendment of Shiprock Four Corners Project Interconnection Agreement, SA 209 to be effective 7/1/2013.

Filed Date: 5/17/13.

Accession Number: 20130517-5149.

Comments Due: 5 p.m. ET 6/7/13.

Docket Numbers: ER13-1521-000.

Applicants: Arizona Public Service Company

Description: Arizona Public Service Company submits Amendments to reflect APS acquisition of portions of Four Corners Units 4-5 to be effective 7/1/2013.

Filed Date: 5/17/13.

Accession Number: 20130517-5152.

Comments Due: 5 p.m. ET 6/7/13.

Docket Numbers: ER13-1522-000.

Applicants: Massachusetts Electric Company

Description: Massachusetts Electric Company submits: Interconnection Agreement Between MECO and French River Land Co. re Tannery Pond to be effective 7/17/2013.

Filed Date: 5/17/13.

Accession Number: 20130517-5153.

Comments Due: 5 p.m. ET 6/7/13.

Docket Numbers: ER13-1523-000.

Applicants: Blythe Energy, LLC.

Description: Blythe Energy, LLC submits Blythe Energy Inc. MBR Tariff to be effective 5/18/2013.

Filed Date: 5/17/13.

Accession Number: 20130517-5154.

Comments Due: 5 p.m. ET 6/7/13.

Docket Numbers: ER13-1524-000.

Applicants: Massachusetts Electric Compan.y

Description: Massachusetts Electric Company submits Interconnection Agreement Between MECO and MM Lowell Energy LLC to be effective 7/17/2013.

Filed Date: 5/17/13.

Accession Number: 20130517-5159.

Comments Due: 5 p.m. ET 6/7/13.

Docket Numbers: ER13-1525-000.

Applicants: PPL Electric Utilities Corporation.

Description: Notice of Cancellation of PPL Electric Utilities Corporation.

Filed Date: 5/17/13.

Accession Number: 20130517-5174.

Comments Due: 5 p.m. ET 6/7/13.

Take notice that the Commission received the following PURPA 210(m)(3) filings:

Docket Numbers: QM13-2-000.

Applicants: PPL Electric Utilities Corporation.

Description: Application to Terminate Purchase Obligation of PPL Electric Utilities Corporation.

Filed Date: 5/17/13.

Accession Number: 20130517-5183.

Comments Due: 5 p.m. ET 6/14/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 20, 2013.
Nathaniel J. Davis, Sr.,
Deputy Secretary.

[FR Doc. 2013-12648 Filed 5-28-13; 8:45 am]

BILLING CODE 6717-01-P